DEPARTMENT OF COMMERCE

National Oceanic and Atmospheric Administration

[I.D. 081001G]

Marine Mammals; Permits

AGENCY: National Marine Fisheries Service (NMFS), National Oceanic and Atmospheric Administration (NOAA), Commerce.

ACTION: Receipt of application for a scientific research permit (File No. 1003-1646); receipt of application to amend Permit No. 455-1445-01.

SUMMARY: Notice is hereby given of the following actions for takes of marine mammal species for the purposes of scientific research and enhancement: NMFS has received a permit application from: Jennifer Burns, University of Alaska Fairbanks, 3211 Providence Drive, Anchorage, Alaska 99508-8104 (File No. 1003-1646); NMFS has received an application for a permit amendment from The Waikiki Aquarium, 2777 Kalakaua Avenue, Honolulu, HI 96815 (Bruce Carlson, Principle Investigator; Permit No. 455-1445-01).

DATES: Written or telefaxed comments on the permit application or amendment request must be received on or before September 24, 2001.

ADDRESSES: Written comments on the permit application or amendment request should be sent to the appropriate office as indicated below. Comments may also be sent via fax to the number indicated for the application or amendment request. Comments will not be accepted if submitted via e-mail or the internet. The application and related documents are available for review upon written request or by appointment in the following office(s):

For permit application (File No. 1003-1646): Alaska Region, NMFS, P.O. Box 21668, Juneau, AK 99802-1668; phone (907) 586-7221; fax (907) 586-7249;

For amendment request (Permit No. 455-1445-01): Southwest Region, NMFS, 501 West Ocean Blvd., Suite 4200, Long Beach, CA 90802-4213; phone (562) 980-4001; fax (562) 980-4018; and

Pacific Islands Area Office, NMFS, 1601 Kapiolani Blvd., Room 1110, Honolulu, HI 96814-4700; phone (808) 973-2935; fax (808) 973-2941.

All documents may also be reviewed by appointment in the Permits and Documentation Division, Office of Protected Resources, NMFS, 1315 East-West Highway, Room 13705, Silver Spring, MD 20910; phone (301) 713-2289; fax (301) 713-0376.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

FOR FURTHER INFORMATION CONTACT: Amy Sloan or Ruth Johnson, (301) 713-2289.

SUPPLEMENTARY INFORMATION: The subject permit and amendment are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-227).

New Application Received

File No. 1003-1646: Dr. Burns proposes to import marine mammal parts (blood, blubber and muscle biopsies, and flipper tissue) from Canadian populations of harbor seals (Phoca vitulina), hooded seals (Cystophora cristata), harp seals (Phoca groenlandica), and grey seals (Halichoerus grypus). These tissues will be used to study physiological adaptations of foraging in marine mammals and more specifically, the development of body oxygen stores in phocid pups.

Amendment Request Received

Permit No. 455-1445-01 currently authorizes the Waikiki Aquarium to hold Hawaiian monk seals (Monachus schauinslandi) for the purpose of enhancing the survival and recovery of the species. The scientific research portion of the permit, which expired June 30, 2001, involved studies on the efficiency with which the monk seals assimilate and metabolize amino acids and fatty acids from common prey types, and the elucidation and monitoring of how reproductive and metabolic activities are related in male monk seals. The applicant proposes to extend this portion of the permit to allow these research projects to continue through the duration of the enhancement permit, until June 30, 2003. The research projects will remain the same with the exception of the feeding study, where natural prey fish will be replaced with capelin, herring, smelt, squid, and/or lobster to ensure consistent quality in the food fed to the seals and to minimize the potential for introducing ciguatera. In addition, changes to training protocols for application to collection of samples for the scientific research studies and husbandry purposes are requested, including increasing training for blood sampling from one time per month to two times per week, training for voluntary swallowing of a feeding tube, and training to receive intramuscular injections.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application and amendment request to the Marine Mammal Commission and its Committee of Scientific Advisors.

Dated: August 16, 2001.
Ann D. Terbush,
Chief, Permits and Documentation Division, Office of Protected Resources, National Marine Fisheries Service.

[FR Doc. 01-21330 Filed 8-22-01; 8:45 am]

BILLING CODE 3510-22-S